LEGAL SERVICES CORPORATION

Sunshine Act Meeting of the Board of Directors Finance Committee

TIME AND DATE: The Finance Committee of the Legal Services Corporation Board of Directors will meet April 30, 2004. The meeting will commence immediately following conclusion of the Provision for the Delivery of Legal Services Committee meeting, which is anticipated to conclude at approximately 4:15 p.m.

LOCATION: University of Baltimore Law Center, Moot Court Room, 1420 North Charles Street, Baltimore, Maryland 21201.

SPECIAL NOTICE: Please note that meetings of the Board of Directors will be held at a different location on Saturday, May 1, 2004.

STATUS OF MEETING: Open.

MATTERS TO BE CONSIDERED:

Open Session

1. Approval of agenda.

2. Approval of the minutes of the Committee's meeting of January 30, 2004.

3. Inspector General's presentation of the Fiscal Year 2003 annual financial audit.

4. Report on LSC's Temporary Operating Budget through March 31, 2004.

5. Consider and act on the President's and Acting Inspector General's recommendations for FY 2004 Consolidated Operating Budget.

6. Consider and act on whether to submit a supplemental request to Congress for additional funding for the development and implementation of a pilot project on Student Loan Repayment Assistance for LSC grantees.

7. Consider and act on other business.

8. Public comment.

9. Consider and act on adjournment of meeting.

FOR FURTHER INFORMATION CONTACT: Patricia D. Batie, Manager of Board Operations, at (202) 295-1500.

SPECIAL NEEDS: Upon request, meeting notices will be made available in alternate formats to accommodate visual and hearing impairments. Individuals who have a disability and need an accommodation to attend the meeting may notify Patricia D. Batie, at (202) 295-1500.

Dated: April 21, 2004.
Victor M. Fortuno,
Vice President for Legal Affairs, General Counsel & Corporate Secretary.

[FR Doc. 04-9432 Filed 4-21-04; 1:09 pm]

BILLING CODE 7050-01-P